DEPARTMENT OF LABOR

Employment and Training Administration

[TA-W-54,791]

Meridian Automotive Systems, Inc., Lenoir, NC; Notice of Termination of Investigation

Pursuant to section 221 of the Trade Act of 1974, as amended, an investigation was initiated on April 27, 2004, in response to a petition filed by a company official on behalf of workers at Meridian Automotive Systems, Inc., Lenoir, North Carolina.

The petitioner has requested that the petition be withdrawn. Consequently, the investigation has been terminated.

Signed at Washington, DC, this 21st day of May, 2004.
Linda G. Poole,
Certifying Officer, Division of Trade Adjustment Assistance.

[FR Doc. 04-12871 Filed 6-7-04; 8:45 am]

BILLING CODE 4510-30-P